ENVIRONMENTAL PROTECTION AGENCY

[ER-FRL-9049-7]

Environmental Impact Statements; Notice of Availability

Weekly receipt of Environmental Impact Statements filed February 24, 2020, 10 a.m. EST, through March 2, 2020, 10 a.m. EST, pursuant to 40 CFR 1506.9.

Responsible Agency: Office of Federal Activities, General Information 202-564-5632 or https://www.epa.gov/nepa/.

Section 309(a) of the Clean Air Act requires that EPA make public its comments on EISs issued by other Federal agencies. EPA's comment letters on EISs are available at: https://cdxnodengn.epa.gov/cdx-enepa-public/action/eis/search.

EIS No. 20200058, Final, USFS, ID, Huckleberry Landscape Restoration Project, Review Period Ends: 04/14/2020, Contact: Ronda Bishop 208-253-0101.

EIS No. 20200059, Draft, BR, NV, Truckee Canal Extraordinary Maintenance, Comment Period Ends: 04/20/2020, Contact: Laurie Nicholas 775-884-8360.

EIS No. 20200060, Draft, FHWA, VA, Route 220 Martinsville Southern Connector, Comment Period Ends: 04/20/2020, Contact: Mack A Frost 804-775-3352.

EIS No. 20200061, Final Supplement, FAA, CA, Gnoss Field Airport, Proposed Extension of Runway 13/31, Novato, Marin County, California, Review Period Ends: 04/06/2020, Contact: Doug Pomeroy 650-827-7612.

EIS No. 20200062, Final, USACE, CA, Final Integrated General Reevaluation Report and Environmental Impact Statement San Francisco Bay to Stockton, California, Navigation Study, Review Period Ends: 04/06/2020, Contact: Paul DeMarco 904-232-1897.

Amended Notice

EIS No. 20200022, Final, BIA, CA, Final Environmental Impact Statement for the Campo Wind Project with Boulder Brush Facilities, Review Period Ends: 03/11/2020, Contact: Dan (Harold) Hall 916-978-6041, Revision to FR Notice Published 1/31/2020; Extending the Comment Period from 3/2/2020 to 3/11/2020.

Dated: March 2, 2020.
Cindy S. Barger,
Director, NEPA Compliance Division, Office of Federal Activities.

[FR Doc. 2020-04606 Filed 3-5-20; 8:45 am]

BILLING CODE 6560-50-P